DEPARTMENT OF DEFENSE

Office of the Secretary of Defense

Defense Business Board; Notice of Federal Advisory Committee Meeting

AGENCY: Chief Management Officer, Department of Defense.

ACTION: Notice of Federal Advisory Committee meeting.

SUMMARY: The Department of Defense (DoD) is publishing this notice to announce that the following Federal Advisory Committee meeting of the Defense Business Board (“the Board”) will take place.

DATES: Closed to the public Wednesday, August 8, 2018 from 8:00 a.m. to 1:00 p.m.

ADDRESSES: Rooms 3E155 & 3E863 in the Pentagon, Washington, DC.

FOR FURTHER INFORMATION CONTACT: Roma Laster, (703) 697-2168 (Voice), (703) 614-4365 (Facsimile), roma.k.laster.civ@mail.mil (Email). Mailing address is Defense Business Board, 1155 Defense Pentagon, Room 5B1088A, Washington, DC 20301-1155. The Board's website is: http://dbb.defense.gov/.

SUPPLEMENTARY INFORMATION: Due to circumstances beyond the control of the Department of Defense (DoD) and the Designated Federal Officer, the Defense Business Board was unable to provide public notification required by 41 CFR 102-3.150(a) concerning the meeting on August 8, 2018 of the Defense Business Board. Accordingly, the Advisory Committee Management Officer for the Department of Defense, pursuant to 41 CFR 102-3.150(b), waives the 15-calendar day notification requirement. This meeting is being held under the provisions of the Federal Advisory Committee Act (FACA) (5 U.S.C., Appendix), the Government in the Sunshine Act (5 U.S.C. 552b), and 41 CFR 102-3.140 and 102-3.150.

Purpose of the Meeting: The mission of the Board is to examine and advise the Secretary of Defense and the Deputy Secretary of Defense, through the Chief Management Officer (CMO) of the Department of Defense on overall DoD management and governance. The Board provides independent advice which reflects an outside private sector perspective on proven and effective best business practices that can be applied to DoD.

Agenda: The meeting will begin at 8:00 a.m. in Room 3E155 with opening remarks from Ms. Roma Laster, the Board's Designated Federal Officer (DFO, and Mr. Bill Simon, Chairman of the Board. Following opening comments, the Board will receive briefings from the Boston Consulting Group and McKinsey & Company, Inc. on cost management efforts within the Department. The Board will next meet in Room 3E863 with the Secretary and the Deputy Secretary of the Defense for a classified discussion of the National Defense Strategy. The meeting will adjourn not later than 1:00 p.m.

Meeting Accessibility: In accordance with section 10(d) of the FACA and 41 CFR 102-3.155, the DoD has determined that the Board's meeting will be closed to the public. Specifically, the CMO, in consultation with the DoD Office of General Counsel, has determined in writing that the meeting will be closed to the public because it will consider matters covered by 5 U.S.C. 552b(c)(1) and (c)(4).

The U.S.C. 552b(c)(1) determination is based on the consideration that the Secretary and the Deputy Secretary of Defense discussions will involve classified matters of national defense or foreign policy. Such classified material is so intertwined with the unclassified material that it cannot reasonably be segregated into separate discussions without disclosing secret or otherwise classified material. The 5 U.S.C. 552b(c)(4) determination is based on the fact that both the Boston Consulting Group and McKinsey & Company. Inc. will disclose commercial information that is privileged or confidential. To permit the meeting to be open to the public would preclude discussion of such matters and would greatly diminish the ultimate utility of the Board's advice and recommendations to the DoD.

Written Statements: In accordance with section 10(a)(3) of the FACA and 41 CFR 102-3.105(j) and 102-3.140, interested persons may submit a written statement for consideration by the Board at any time regarding its mission or in response to the stated agenda of a planned meeting. Individuals submitting a written statement must submit their statement to the Board's DFO at any point. Submit written statement to the Board's organizational mailbox at: osd.pentagon.odam.mbx.defense-business-board@mail.mil. Please note that since the Board operates in accordance with the provisions of the FACA, all submitted comments will be treated as public documents and will be made available for public inspection, including, but not limited to, being posted on the Board's website.

Dated: August 7, 2018.
Shelly E. Finke,
Alternate OSD Federal Register Liaison Officer, Department of Defense.

[FR Doc. 2018-17147 Filed 8-9-18; 8:45 am]

BILLING CODE 5001-06-P